NATIONAL CREDIT UNION ADMINISTRATION

Sunshine Act; Notice of Agency Meeting

Time and Date: 10 a.m., Thursday, November 20, 2008.

Place: Board Room, 7th Floor, Room 7047, 1775 Duke Street, Alexandria, VA 22314-3428.

Status: Open.

Matters to be Considered: 1. NCUA's Examination Program.

2. NCUA's 2009/2010 Operating Budget.

3. NCUA's Overhead Transfer Rate.

4. NCUA's Operating Fee Scale.

5. Final Rule—Part 702 of NCUA's Rules and Regulations, Prompt Corrective Action.

6. Final Rule—Parts 701 and 705 of NCUA Rules and Regulations, Low Income Definition.

7. Final Rule—Part 701 of NCUA Rules and Regulations, Interpretive Ruling and Policy Statement (IRPS) 08-2, Criteria to approve service to underserved areas.

8. Quarterly Insurance Fund Report.

FOR FURTHER INFORMATION CONTACT: Mary Rupp, Secretary of the Board, Telephone: 703-518-6304.

Hattie Ulan,
Acting Board Secretary.

[FR Doc. E8-27393 Filed 11-14-08; 11:15 am]

BILLING CODE 7535-01-P